DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on April 19, 2005. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, P.O. Box 25007, Denver, Colorado 80225-0007; telephone (303) 445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

The March 10, 2005, notice should be used as a reference point to identify changes. The numbering system in this notice corresponds with the numbering system in the March 10, 2005, notice.

Definitions of Abbreviations Used in This Document

BCP—Boulder Canyon Project

Reclamation—Bureau of Reclamation

CAP—Central Arizona Project

CVP—Central Valley Project

CRSP—Colorado River Storage Project

FR—Federal Register

IDD—Irrigation and Drainage District

ID—Irrigation District

M&I—Municipal and Industrial

NMISC—New Mexico Interstate Stream Commission

O&M—Operation and Maintenance

P-SMBP—Pick-Sloan Missouri Basin Program

PPR—Present Perfected Right

SOD—Safety of Dams

SRPA—Small Reclamation Projects Act of 1956

WD—Water District

Pacific Northwest Region: Bureau of Reclamation, 1150 North Curtis Road, Suite 100, Boise, Idaho 83706-1234, telephone (208) 378-5344.

The Pacific Northwest Region has no updates to report for this quarter. Please refer to the March 10, 2005, publication of this notice for current contract actions.

Mid-Pacific Region: Bureau of Reclamation, 2800 Cottage Way, Sacramento, California 95825-1898, telephone (916) 978-5250.

New contract actions:

39. Mercy Springs WD, CVP, California: Proposed partial assignment of 2,825 acre-feet of Mercy Springs WD's CVP supply to San Luis WD for irrigation and M&I use.

40. Oro Loma WD, CVP, California: Proposed partial assignment of 4,000 acre-feet of Oro Loma WD's CVP supply to Westlands WD for irrigation and M&I use.

41. San Luis WD, CVP, California: Proposed partial assignment of 2,400 acre-feet of San Luis WD's CVP supply to Santa Nella County WD for M&I use.

42. Placer County Water Agency, CVP, California: Proposed exchange agreement under Section 14 of the Reclamation Project Act of 1939 of up to 74,000 acre-feet.

Modified contract actions:

9. El Dorado ID, CVP, California: Execution of long-term Warren Act contracts for conveyance of nonproject water (one contract for Weber Reservoir and pre-1914 “ditch” rights in the amount of 3,344 acre-feet, and one contract for Project 184 in the amount of 11,000 acre-feet). The contracts will allow CVP facilities to be used to deliver nonproject water to El Dorado ID for use within its service area.

22. City of Vallejo, Solano Project, California: Execution of long-term Warren Act contract for conveyance of nonproject water. This contract will allow Solano Project facilities to deliver nonproject water to the City of Vallejo for use within its service area.

23. Sacramento Suburban WD, CVP, California: Execution of long-term Warren Act contract for conveyance of nonproject water. This contract will allow CVP facilities to be used to deliver nonproject water provided from the Placer County Water Agency to the Sacramento Suburban WD for use within its service area.

26. San Joaquin Valley National Cemetery, U.S. Department of Veteran Affairs; Delta Division, CVP; California: Renewal of the long-term water service contract for up to 850 acre-feet. Contract executed February 28, 2005. Wheeling agreement for conveyance through the California State Aqueduct is pending.

31. Delta Lands Reclamation District No. 770, CVP, California: Long-term Warren Act contract for conveying nonproject flood flows.

Discontinued contract Action:

15. Plain View WD, CVP, California: Long-term Warren Act contract for conveyance of nonproject water in the Delta-Mendota Canal.

Completed contract actions:

26. San Joaquin Valley National Cemetery, U.S. Department of Veteran Affairs; Delta Division, CVP; California: Renewal of the long-term water service contract for up to 850 acre-feet. Contract executed February 28, 2005. Wheeling agreement for conveyance through the California State Aqueduct is pending.

34. Plain View WD, CVP, California: Reorganization and proposed full contract assignment of Plain View WD's CVP supply to Byron-Bethany ID. Contract was executed on March 14, 2005.

Lower Colorado Region: Bureau of Reclamation, P.O. Box 61470 (Nevada Highway and Park Street), Boulder City, Nevada 89006-1470, telephone (702) 293-8081.

Completed contract action:

41. Golden Shores Water Conservation District, BCP, Arizona: Amend the district's contract to include the water allocation for Topock Village Estates within the district's boundaries.

Upper Colorado Region: Bureau of Reclamation, 125 South State Street, Room 6107, Salt Lake City, Utah 84138-1102, telephone (801) 524-3864.

Modified contract actions:

6. Sanpete County Water Conservancy District, Narrows Project, Utah: Application for a SRPA loan and grant to construct a dam, reservoir, and pipeline to annually supply approximately 5,000 acre-feet of water through a transmountain diversion from upper Gooseberry Creek in the Price River drainage (Colorado River Basin) to the San Pitch—Sevier River (Great Basin).

31. Central Utah Project, Utah. Petition for project water among the United States, the Central Utah Water Conservancy District, and the Duchesne County Water Conservancy District for use of 2,500 acre-feet of irrigation water from the Bonneville Unit of the Central Utah Project.

Completed contract actions:

1.(a) Ron Connell, Aspinall Storage Unit, CRSP: Mr. Connell has requested a 40-year water service contract for 6 acre-feet of water out of Blue Mesa Reservoir. Mr. Connell has submitted an augmentation plan to Water District 4, Case No. 04CW168. Contract was executed on February 2, 2005.

1.(c) Dry West Nursery, Aspinall Storage Unit, CRSP: Dry West Nursery has requested a 40-year water service contract for 3 acre-feet of water out of Blue Mesa Reservoir. Dry West Nursery has submitted their augmentation plan to Water District 4, Case No. 04CW174. Contract was executed on March 2, 2005.

21. Coon Creek Reservoir and Ditch Company, Collbran Project: The Coon Creek Reservoir and Ditch Company and the Collbran Conservancy District have requested a nonproject irrigation carriage contract (40-year) to have 3 cfs, not to exceed 1,000 acre-feet annually, of their direct flow irrigation water rights diverted into and delivered through the existing Southside Canal, a feature of Collbran Project delivery structures. Contract was executed on May 26, 2005.

22. Central Utah Water Conservancy District, Bonneville Unit, Central Utah Project, Utah: Negotiate a repayment contract for 60,000 acre-feet per year of M&I water from the Utah Lake System. Contract was executed on March 15, 2005.

24. Town of Palisade, Palisade ID, Mesa County ID, Reclamation, and the U.S. Fish and Wildlife Service; CRSP: The Colorado River is critical habitat for four endangered fish species. These agencies are entering into an agreement for each to provide the following: Reclamation shall provide cost-share funding for the recovery monitoring and research, and O&M (October 30, 2000, 114 Stat. 1602, Pub. L. 106-392); the districts are willing to allow the U.S. Fish and Wildlife Service and Reclamation to construct the fish passage; and the Town of Palisade proposes to provide related safety features on or near the fish passage. Contract was executed on May 3, 2005.

26. Reclamation, U.S. Fish and Wildlife Service, and the Colorado River Water Conservation District; Recovery Implementation Program for Endangered Fish Species in the Upper Colorado River Basin: Reclamation will provide cost-share funding for enlargement of Elkhead Reservoir (October 30, 2000, 114 Stat. 1602, Pub. L. 106-392) in a separate grant agreement. Contract was executed on February 15, 2005.

Great Plains Region: Bureau of Reclamation, P.O. Box 36900, Federal Building, 316 North 26th Street, Billings, Montana 59107-6900, telephone (406) 247-7752.

New contract actions:

51. Bostwick ID; Superior-Courtland and Franklin Units, Bostwick Division, P-SMBP; Red Cloud, Nebraska: The district requested a deferment of its 2005 construction obligations in accordance with the Act of September 21, 1959.

52. Kirwin ID No. 1; Kirwin Unit, Solomon Division, P-SMBP; Gaylord, Kansas: The district requested a deferment of its 2005 construction obligations in accordance with the Act of September 21, 1959.

53. Webster ID; Webster Unit, Solomon Division, P-SMBP; Gaylord, Kansas: The district requested a deferment of its 2005 construction obligations in accordance with the Act of September 21, 1959.

54. Ainsworth ID; Ainsworth Unit, Sandhills Division, P-SMBP; Ainsworth, Nebraska: Contract renewal for a long-term water service contract.

55. Pueblo West Metropolitan District, Fryingpan-Arkansas Project, Colorado: Consideration of a request for a long-term contract for the use of excess capacity in the Fryingpan-Arkansas Project.

56. Mark H. Allredge, H.S. Properties LLC (Individual); Boysen Unit, P-SMBP; Wyoming: Renewal of long-term water service contract for up to 84 acre-feet of supplemental irrigation water to serve 84 acres.

57. Western Heart River ID, P-SMBP, North Dakota: Amend existing power contract to allow for the installation of an additional pump site and to provide project use power to that site.

Modified contract actions:

46. Buford-Trenton ID, Buford-Trenton Project, North Dakota: Amend existing power contract to provide for increase in project use pumping power rate of delivery and enter new repayment and power contract for additional project use pumping power for project purposes in irrigating bench lands existing within the district.

47. East Bench ID; East Bench Unit, P-SMBP; Montana: The district requested a deferment of its 2005 construction obligation. A request is being prepared to amend Contract No. 14-06-600-3593 to defer payments in accordance with the Act of September 21, 1959.

49. Frenchman Valley ID; Frenchman Unit, Frenchman-Cambridge Division, P-SMBP; Culbertson, Nebraska: The district requested a deferment of its 2005 construction obligation in accordance with the Act of September 21, 1959.

50. Kansas-Bostwick ID No. 2; Courtland Unit, Bostwick Division, P-SMBP; Courtland, Kansas: The district requested a deferment of its 2005 construction obligations in accordance with the Act of September 21, 1959.

Completed contract actions:

12. Western Heart River ID; Heart Butte Unit, P-SMBP; North Dakota: Negotiation of water service contract to continue delivery of project water to the district. A new 40-year water service contract was executed on May 2, 2005.

15. Morkrid Enterprises, Inc.; Lower Marias Unit, P-SMBP; Montana: Initiating a long-term contract for up to 3,751 acre-feet of storage water from Tiber Reservoir to irrigate 1,875 acres. A new 40-year repayment contract was executed on March 4, 2005.

Dated: June 15, 2005.
Roseann Gonzales,
Director, Office of Program and Policy Services.

[FR Doc. 05-14488 Filed 7-21-05; 8:45 am]

BILLING CODE 4310-MN-P